DEPARTMENT OF ENERGY

Federal Energy Regulatory Commission

[Docket Nos. CP17-495-000, CP17-494-000]

Notice of Meeting: Jordan Cove Energy Project, L.P.; Pacific Connector Gas Pipeline, L.P.

The environmental staff of the Federal Energy Regulatory Commission (Commission) along with other federal agency staff will meet with representatives of The Klamath Tribes to discuss the proposed Jordan Cove Energy Project. The meeting will be held at the location and time listed below:

Chiloquin Community Center, 140 South 1st Avenue, Chiloquin, Oregon 97624, Thursday, June 13, 2019, 1:00 p.m. PDT

Members of the public and intervenors in the referenced proceeding may attend and observe this meeting; however, participation will be limited to tribal representatives and federal agency staff. If tribal representatives choose to disclose information about a specific location which could create a risk or harm to an archeological site or Native American cultural resource, the public will be excused for that portion of the meeting. A summary of the meeting will be entered into the Commission's administrative record.

If you plan to attend this meeting, please contact Mr. John Peconom, Environmental Project Manager at (202) 502-6352 or John.Peconom@ferc.gov.

Dated: June 4, 2019.
Kimberly D. Bose,
Secretary.

[FR Doc. 2019-12250 Filed 6-10-19; 8:45 am]

BILLING CODE 6717-01-P